POSTAL SERVICE

39 CFR Part 232

Conduct on Postal Property

AGENCY: Postal Service.

ACTION: Final rule.

SUMMARY: This rule amends the enforcement provisions of the rules for conduct on Postal Service property to restate the statutory basis for the powers of members of the Postal Service security force, and the authority of postal installation heads to enter into agreements with state and local law enforcement agencies for the enforcement of those rules. Repeal and replacement of the law formerly cited as defining these powers and authority necessitates this amendment. The Postal Service intends no substantive change to the referenced powers and authority.

DATES: Effective Date: March 6, 2006.

FOR FURTHER INFORMATION CONTACT: Lawrence Katz, Inspector in Charge, Office of Counsel, U.S. Postal Inspection Service, 202-268-7732.

SUPPLEMENTARY INFORMATION: As the law enforcement arm of the Postal Service, the U.S. Postal Inspection Service is responsible for enforcing the rules governing conduct on Postal Service property. The rules are published in 39 CFR 232.1. With regard to the enforcement of these rules, subsection (q) provides that (1) they are enforced by the Postal Service security force, (2) postal installation heads and postmasters may enter into agreements with state and local law enforcement agencies to enforce these rules, and (3) certain other designated persons may likewise enforce the rules.

The security force is a component of the Postal Inspection Service and comprises those armed employees whom the Postal Service has since 1971 been authorized by 39 U.S.C. 1201 to employ as guards for the protection of postal premises. In lieu of a provision for the specific police powers of such guards in permanent legislation, their powers have been provided through a general provision in annual appropriations acts, beginning with that of 1973 (Pub. L. 92-351, 86 Stat. 471, section 612). Such general provisions have uniformly incorporated by reference the powers given to special policemen by former 40 U.S.C. 318, et seq. The most recent act to do so was the Consolidated Appropriations Act for 2005 (Pub. L. 108-447, 118 Stat. 2809, section 611). However, those sections of title 40, United States Code were repealed in 2002 (Pub. L. 107-217, 116 Stat. 1062, section 6) and ultimately replaced by new provisions in the Homeland Security Act of 2002 (Pub. L. 107-296, 116 Stat. 2135, section 1706). In the annual appropriations act for 2006 (Pub. L. 109-115, 119 Stat. 2396, section 811), Congress for the first time cited relevant sections of the revised Title 40 U.S.C. to define the powers of members of the Postal Service security force. The enforcement provision at 39 CFR 232.1(q)(1) requires amendment accordingly.

The Postal Service assigns a security force of career postal employees at only a few of its more than 37,000 facilities—those where a need for full-time armed security for an indefinite period is identified. Postmasters and local installation heads may enter into agreements with state and local law enforcement agencies to enforce the rules for conduct on postal property. Like the powers of the security force, this authority has been provided and renewed annually through the appropriations act riders referred to above. Thus, the regulation at 39 CFR 232.1(q)(2) similarly requires amendment to cite the law that has replaced the provision of title 40, United States Code repealed in 2002.

The Postal Service intends by these amendments simply to maintain the status quo with regard to both the powers of members of the postal security force and the authority of local installation heads and postmasters, albeit through citation to current provisions of title 40, United States Code, rather than to repealed sections.

List of Subjects in 39 CFR Part 232

Authority delegations (Government agencies), Crime, Federal buildings and facilities, Government property, Intergovernmental relations, Law enforcement officers, Postal Service, Security measures, State and local governments.

In view of the considerations discussed above, the Postal Service adopts the following amendment to 39 CFR part 232.

PART 232—CONDUCT ON POSTAL PROPERTY

1. The authority citation for part 232 is revised to read as follows:

Authority: 18 U.S.C. 13, 3061; 21 U.S.C. 802, 844; 39 U.S.C. 401, 403(b)(3), 404(a)(7); 40 U.S.C. 1315; Sec. 811, Pub. L. 109-115, 119 Stat. 2396.

2. In § 232.1, paragraphs (q)(1) and (2) are revised to read as follows:

§ 232.1 Conduct on postal property.

* * * * *

(q) Enforcement. (1) Members of the U.S. Postal Service security force shall exercise such special police powers provided by 40 U.S.C. 1315(b)(2) as have been given to the security force by the Postal Service and shall be responsible for enforcing the regulations in this section in a manner that will protect Postal Service property.

(2) Local postmasters and installation heads may, pursuant to 40 U.S.C. 1315(d)(3) and with the approval of the chief postal inspector or his designee, enter into agreements with State and local enforcement agencies to insure that these rules and regulations are enforced in a manner that will protect Postal Service property.

* * * * *

Stanley F. Mires,
Chief Counsel, Legislative.

[FR Doc. 06-2029 Filed 3-3-06; 8:45 am]

BILLING CODE 7710-12-P